DEPARTMENT OF LABOR

Employment and Training Administration

[TA-W-74,897]

Penske Logistics LLC, a Subsidiary of General Electric/Penske Corporation Including On-Site Leased Workers From Kelly Temporary Services and Manpower El Paso, TX; Notice of Termination of Investigation

On March 18, 2011, the Department issued a Notice of Affirmative Determination Regarding Application for Reconsideration applicable to workers and former workers of Penske Logistics LLC, a subsidiary of General Electric/Penske Corporation, El Paso, Texas (subject firm). The Department's Notice was published in the Federal Register on March 29, 2011 (76 FR 17447). The workers are engaged in employment related to the supply of customer service functions.

The negative determination was based on the findings that the subject firm did not shift to/acquire from a foreign country services like or directly competitive with the customer services supplied; that the workers' separation, or threat of separation, was not due to an increase in imports of like or directly competitive services; and that the workers were not eligible to apply for Trade Adjustment Assistance (TAA) as adversely-affected secondary workers.

On January 31, 2011, the three workers who filed the request for reconsideration filed a petition for TAA on behalf of the same worker group (TA-W-75,158). A certification applicable to the worker group covered by TA-W-75,158 (including on-site leased workers of Kelly Temporary Services and Manpower) was issued on February 23, 2011. The Department's Notice of Determination (TA-W-75,158) was published in the Federal Register on March 10, 2011 (76 FR 13233).

Further investigation on administrative reconsideration would serve no purpose; therefore, the immediate investigation is terminated.

Signed at Washington, DC, this 2nd day of May, 2011.
Del Min Amy Chen,
Certifying Officer, Office of Trade Adjustment Assistance.

[FR Doc. 2011-11641 Filed 5-11-11; 8:45 am]

BILLING CODE P